DEPARTMENT OF HEALTH AND HUMAN SERVICES

Meeting of the Tick-Borne Disease Working Group

AGENCY: Office of Infectious Disease and HIV/AIDS Policy (OIDP), Office of the Assistant Secretary for Health (OASH), Office of the Secretary, Department of Health and Human Services.

ACTION: Notice; addendum to 87 FR 56964 published on September 16, 2022.

SUMMARY: The Office of the Assistant Secretary for Health published a notice of an upcoming meeting of the Tick-Borne Disease Working Group (TBDWG) in the Federal Register on September 16, 2022. This addendum provides notice of an additional day added to the October 25, 2022 meeting. The 24th meeting of the TDBWG will now take place from October 24-25, 2022. The September 16th Federal Register notice can be accessed at https://www.federalregister.gov/documents/2022/09/16/2022-20088/meeting-of-the-tick-borne-disease-working-group.

DATES: The public can view the meeting online via webcast on October 24 and 25, 2022 from approximately 9:00 a.m. to 5:00 p.m. ET (times are tentative and subject to change) each day. The confirmed times and agenda items for the meeting will be posted on the TBDWG web page at https://www.hhs.gov/ash/advisory-committees/tickbornedisease/meetings/2022-10-25/index.html when this information becomes available.

SUPPLEMENTARY INFORMATION: As stated in the Federal Register notice dated September 16th, the public will have an opportunity to present their views to the TBDWG orally during the meeting's public comment session or by submitting a written public comment. Persons who wish to provide verbal or written public comment should review instructions at https://www.hhs.gov/ash/advisory-committees/tickbornedisease/meetings/2022-10-25/index.html and respond by midnight October 17, 2022 ET.

FOR FURTHER INFORMATION CONTACT: James Berger, Designated Federal Officer for the TBDWG; Office of Infectious Disease and HIV/AIDS Policy, Office of the Assistant Secretary for Health, Department of Health and Human Services, Tower Building, 1101 Wootton Parkway, Rockville, MD 20852. Email: tickbornedisease@hhs.gov. Phone: 202-795-7608.

Dated: September 30, 2022.
James Berger,
Designated Federal Officer, HHS Tick-Borne Disease Working Group, Office of HIV/AIDS and Infectious Disease Policy.

[FR Doc. 2022-22589 Filed 10-17-22; 8:45 am]

BILLING CODE 4150-28-P